FEDERAL MARITIME COMMISSION

Sunshine Act Meeting

AGENCY: Federal Maritime Commission.

Federal Register Citation of Previous Announcement: 68 FR 52770.

Previously Announced Time and Date of the Meeting: 10 a.m., September 11, 2003.

Correction

The wording of the Title for Item 1 was incorrect it should read:

1. Fact Finding Investigation No. 25—Practices of Transpacific Stabilization Agreement Members Covering the 2002-2003 Service Contract Season and Section 15 Responses from TSA and Carriers Operating in the Inbound Transpacific Trades.

FOR FURTHER INFORMATION CONTACT: Bryant L. VanBrakle, Secretary, (202) 523-5725.

Bryant L. VanBrakle,
Secretary.

[FR Doc. 03-23116 Filed 9-5-03; 3:40 pm]

BILLING CODE 6730-01-M